DEPARTMENT OF TRANSPORTATION

Coast Guard

[USCG-1998-3584]

Proposed Modernization of the Coast Guard National Distress and Response System

AGENCY: Coast Guard, DOT.

ACTION: Notice of intent to prepare a Supplemental Program Environmental Assessment.

SUMMARY: The U.S. Coast Guard intends to prepare a Supplemental Program Environmental Assessment (SPEA) for the National Distress and Response System Modernization Project (NDRSMP). The SPEA will supplement our July 1998 Programmatic Environmental Assessment (PEA) with respect to modernizing and deploying the National Distress and Response System (NDRS) and it will examine reasonable alternatives for the deployment of dual mode VHF/UHF radio equipment to either an existing NDS antenna tower site, antenna tower space leased from a commercial provider, or new construction of an antenna tower site. We are requesting early public input on these alternatives and the potential for environmental impacts as a result of implementing them.

DATES: Comments and related material must reach the Docket Management Facility on or before June 24, 2002.

ADDRESSES: To make sure your comments and related material are not entered more than once in the docket, please submit them by only one of the following means:

(1) By mail to the Docket Management Facility (USCG-1998-3584), U.S. Department of Transportation, Room PL-401, 400 Seventh Street, SW., Washington, DC 20590-0001.

(2) By delivery to Room PL-401 on the Plaza level of the Nassif Building, 400 Seventh Street, SW., Washington DC, between 9 a.m. and 5 p.m., Monday through Friday, except Federal holidays. The telephone number is 202-366-9329.

(3) By fax to the Docket Management Facility at 202-493-2251.

(4) Electronically through the Web Site for the Docket Management System at http://dms.dot.gov.

In choosing among these means, please give due regard to recent difficulties and delays associated with delivery of mail through the U.S. Postal Service to Federal facilities.

The Docket Management Facility maintains the public docket for this notice. Comments and material received from the public, as well as this notice, will become part of this docket and will be available for inspection or copying at Room PL-401 on the Plaza level of the Nassif Building, 400 Seventh Street, SW., Washington DC, between 9 a.m. and 5 p.m., Monday through Friday, except Federal holidays. You may also find this docket on the Web Site at http://www.dms.dot.gov.

FOR FURTHER INFORMATION CONTACT: If you have questions on this notice, the proposed project, or the associated assessment, call Donna M. Meyer, Environmental Program Manager, National Distress and Response System Modernization Project, U.S. Coast Guard Headquarters, 202-267-1496 or e-mail her at dmeyer@comdt.uscg.mil. For questions on viewing or submitting material to the docket, contact Dorothy Beard, Chief, Dockets, Department of Transportation, 202-366-5149.

SUPPLEMENTARY INFORMATION:

Request for Comments

We encourage you to submit comments and related material on our Supplemental Program Environmental Assessment. If you do so, please include your name and address, identify the docket number for this notice (USCG-1998-3584), and provide background support for each comment. You may submit your comments and material by mail, hand delivery, fax, or electronic means to the Docket Management Facility at the address under ADDRESSES; but please submit your comments and material by only one means. When submitting by mail or hand delivery, submit your comments or material in an unbound format, no larger than 8½ by 11 inches, suitable for copying and electronic filing. If you submit them by mail and would like to know if the comments and/or material were received by the facility, please enclose a stamped, self-addressed postcard or envelope. The Coast Guard will consider all comments and material received during the comment period.

Public Hearing

We do not now plan to hold a public hearing. But you may submit a request for one to the Docket Management Facility at the address under ADDRESSES explaining why one would be beneficial. If we determine that one would aid us in preparing the SPEA, and would significantly aid in our environmental review and analysis for the proposal, we will hold one at a time and place announced by a later notice in the Federal Register.

Background

The National Distress and Response System forms the backbone of the Coast Guard's Short Range Communication System (SRCS) that supports Coast Guard Activity, Group, Marine Safety Office (MSO), Vessel Traffic Service (VTS), Air Station, Cutter and Station operations. As part of the SRCS, the NDRS incorporates the use of VHF-FM radios to provide two-way voice communications coverage for the majority of Coast Guard missions in coastal areas and navigable waterways where commercial and recreational traffic exists. The system, consisting of approximately 300 remotely controlled VHF transceiver sites, monitors the international VHF-FM maritime distress frequency (Channel 16), and is the primary command and control network to coordinate Coast Guard search and rescue (SAR) response activities. The secondary function is to provide command, control, and communications for the Coast Guard missions of national security, maritime safety, law enforcement, and marine environmental protection.

In July 1998, the Coast Guard published a Programmatic Environmental Assessment that considered general concepts to modernize the current obsolete and nonstandard system. The alternatives we considered included:

Alternative A—Status quo.

Alternative B—Upgrade status quo by systematically upgrading the existing network with modern analog transceivers. This alternative replaces old equipment with new equipment and adds additional radio capability. It is expected this alternative would require additional antenna sites.

Alternative C—Dual mode VHF and/or UHF network replaces existing analog network with dual mode (digital and analog) transceivers. It is expected this alternative would require additional antenna sites. And,

Alternative D—Multi-mode: Satellite, cellular, VHF and/or UHF network. This alternative replaces the existing network with multi-mode equipment that utilizes satellite, cellular, and VHF/UHF communications. It is expected that this alternative would require additional antenna sites.

Alternatives B, C, and D would all require approximately the same number of additional antenna sites. Since 1998, new circumstances and relevant information regarding the deployment of the system to an existing antenna site, or leasing an antenna site, or constructing a new antenna site as well as the Coast Guard's preference for Alternative C, call for a Supplemental Program Environmental Assessment to consider any environmental impacts that were previously not taken into account.

Supplemental Programmatic Environmental Assessment

Pursuant to the National Environmental Policy Act (NEPA) of 1969, and the President's Council on Environmental Quality Regulations (40 CFR parts 1500-1508), we intend to prepare a Supplemental Program Environmental Assessment for the National Distress and Response System Modernization Project.

Information, data, and comments obtained throughout the course of the Scoping process may be used in the preparation of the SPEA. The purpose of this notice of intent is to inform the public, local, State, and Federal government agencies that a Supplemental PEA will be prepared.

In addition, the SPEA will provide those interested with an opportunity to present their comments, information, or other relevant observations concerning alternatives and potential environmental impacts relating to the deployment and installation of the NDRSMP. Alternatives under consideration include: (1) Taking no action; (2) deployment to existing antenna tower sites; (3) leasing antenna space on an existing tower; and (4) new construction of a tower site.

Our efforts to coordinate with appropriate Federal, State and local agencies, and private organizations and citizens who have expressed interest in this proposal will continue. The SPEA will be made available for public and agency review and comment. To ensure that the full range of issues related to the proposed action are addressed and that all significant issues are identified, we invite your comments and suggestions.

Dated: May 17, 2002.
C.D. Wurster,
RADM, U.S. Coast Guard, Assistant Commandant for Acquisitions.

[FR Doc. 02-13130 Filed 5-23-02; 8:45 am]

BILLING CODE 4910-15-P